DEPARTMENT OF ENERGY

Federal Energy Regulatory Commission

[Project No. 13565-000-VT]

Charlie Hotchkin and Claire Fay; Notice of Availability of Environmental Assessment

July 13, 2010.

In accordance with the National Environmental Policy Act of 1969 and the Federal Energy Regulatory Commission's regulations, 18 CFR part 380 (Order No. 486, 52 F.R. 47879), the Office of Energy Projects has reviewed the application for a small hydro (5 megawatts or less) exemption from licensing for the Alder Brook Mini-Hydro Project, to be located on Alder Brook, near the town of Richford, Franklin County, Vermont, and has prepared an Environmental Assessment (EA). In the EA, Commission staff analyzes the potential environmental effects of the project and concludes that issuing an exemption for the project, with appropriate environmental measures, would not constitute a major federal action significantly affecting the quality of the human environment.

A copy of the EA is on file with the Commission and is available for public inspection. The EA may also be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. For further information, contact Michael Spencer at (202) 502-6093.

Kimberly D. Bose,
Secretary.

[FR Doc. 2010-17559 Filed 7-16-10; 8:45 am]

BILLING CODE 6717-01-P